DEPARTMENT OF JUSTICE

Antitrust Division

Notice Pursuant to the National Cooperative Research and Production Act of 1993—Cooperative Research Group On In-Situ Measurement of H2S To Validate Thermodynamic Calculations (“Seed Project”)

Notice is hereby given that, on December 9, 2022 pursuant to section 6(a) of the National Cooperative Research and Production Act of 1993, 15 U.S.C. 4301 et seq. (“the Act”), Cooperative Research Group on In-situ Measurement of H2S to Validate Thermodynamic Calculations (“Seed Project”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Shell International Exploration and Production Inc., Houston, TX, Chevron Technical Center, Houston, TX, and Petroleo Brasileiro S.A.—Petrobras, Rio de Janeiro, BRAZIL.

The general area of Energy Storage for In-situ Measurement of H2S to Validate Thermodynamic Calculations' planned activities is to: (1) validate HPHT techniques to measure H2S in-situ and (2) define the HPHT environments necessitating new H2S solubility data.

Suzanne Morris,
Deputy Director of Civil Enforcement Operations, Antitrust Division.

[FR Doc. 2023-01351 Filed 1-23-23; 8:45 am]

BILLING CODE 4410-11-P